NATIONAL AERONAUTICS AND SPACE ADMINISTRATION

[Notice (07-063)]

National Space-Based Positioning, Navigation, and Timing (PNT) Advisory Board; Meeting

AGENCY: National Aeronautics and Space Administration.

ACTION: Notice of meeting.

SUMMARY: In accordance with the Federal Advisory Committee Act (Pub. L. 92-463, as amended), and the President's 2004 U.S. Space-Based Positioning, Navigation and Timing (PNT) Policy, the National Aeronautics and Space Administration announces a meeting of the National Space-Based Positioning, Navigation, and Timing Advisory Board.

DATES: Thursday, October 4, 2007, 9 a.m. to 5 p.m. and Friday, October 5, 2007, 9 a.m. to 1 p.m. Eastern Daylight Time.

ADDRESS: Doubletree Hotel, Washington DC, 1515 Rhode Island Avenue NW., District of Columbia, USA, 20005.

FOR FURTHER INFORMATION CONTACT: Ms. Barbara Adde, Space Operations Mission Directorate, National Aeronautics and Space Administration, Washington, DC 20546, (202) 358-1912.

SUPPLEMENTARY INFORMATION: The meeting will be open to the public up to the seating capacity of the room. The agenda for the meeting includes the following topics:

• Update on President's 2004 U.S. Space-Based Positioning, Navigation and Timing Policy, and Global Positioning System (GPS) Modernization.

• Exploring Opportunities for Making the Global Positioning and Timing Grid more Robust Through Infrastructure Technologies and Applications.

• Examining Emerging Technical and Market Trends for PNT Services in U.S. and International Arena.

• Optimizing and Prioritizing Current and Planned GPS Capabilities and Services.

• Updating GPS Standard Positioning Service Performance Standards.

• Maintaining U.S. GPS Technological Leadership and Competitiveness.

• Initiating U.S. Strategic Engagement and Communications on PNT Services.

• Addressing Future Challenges to PNT Service Providers and Users.

It is imperative that the meeting be held on these dates to accommodate the scheduling priorities of the key participants. Visitors will be requested to sign a visitor's register.

Dated: August 30, 2007.
P. Diane Rausch,
Advisory Committee Management Officer, National Aeronautics and Space Administration.

[FR Doc. E7-17726 Filed 9-7-07; 8:45 am]

BILLING CODE 7510-13-P